DEPARTMENT OF LABOR

Employment and Training Administration

[TA-W-56,083]

Apex Pattern Company, Los Angeles, CA; Notice of Negative Determination Regarding Application for Reconsideration

By application of February 14, 2005 a petitioner requested administrative reconsideration of the Department's negative determination regarding eligibility for workers and former workers of the subject firm to apply for Trade Adjustment Assistance (TAA) and Alternative Trade Adjustment Assistance (ATAA). The denial notice was signed on February 1, 2005 and published in the Federal Register on March 9, 2005 (70 FR 11703).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Apex Pattern Company, Los Angeles, California engaged in production of wheel molds was denied because the “contributed importantly” group eligibility requirement of Section 222 of the Trade Act of 1974 was not met. The “contributed importantly” test is generally demonstrated through a survey of the workers' firm's customers. The survey revealed no increase in imports of wheel molds during the relevant period. The subject firm did not import wheel molds in the relevant period nor did it shift production to a foreign country.

The petitioner alleges that the subject firm lost its business due to its major customers importing products and shifting their production abroad.

In order to establish import impact, the Department must consider imports that are like or directly competitive with those produced at the subject firm. The Department conducted a survey of the subject firm's major declining customer regarding their purchases of wheel molds. The survey revealed that the declining customers did not increase their imports of wheel molds during the relevant period.

The petitioner further alleges that the major customer of the subject firm has shifted its production of wheels to Mexico and that workers of this firm were certified eligible for TAA.

The fact that subject firm's customer shifted its production abroad and were certified eligible for TAA is relevant to this investigation if determining whether workers of the subject firm are eligible for trade adjustment assistance (TAA) based on the secondary upstream supplier impact. For certification on the basis of the workers' firm being a secondary upstream supplier, the subject firm must produce a component part of the article that was the basis for the customers' certification.

In this case, however, the subject firm does not act as an upstream supplier, because wheel molds do not form a component part of the aluminum automotive wheels. Thus the subject firm workers are not eligible under secondary impact.

Conclusion

After review of the application and investigative findings, I conclude that there has been no error or misinterpretation of the law or of the facts which would justify reconsideration of the Department of Labor's prior decision. Accordingly, the application is denied.

Signed at Washington, DC this 31st day of March, 2005.
Elliott S. Kushner,
Certifying Officer, Division of Trade Adjustment Assistance.

[FR Doc. E5-1938 Filed 4-22-05; 8:45 am]

BILLING CODE 4510-30-P